DEPARTMENT OF THE INTERIOR

National Park Service

[NPS-WASO-NAGPRA-21878; PPWOCRADN0-PCU00RP14.R50000]

Native American Graves Protection and Repatriation Review Committee Findings and Recommendations Regarding Cultural Items for the Wiyot Tribe, California

AGENCY: National Park Service, Interior.

ACTION: Findings and recommendations.

SUMMARY: The National Park Service is publishing this notice as part of its administrative responsibilities pursuant to the Native American Graves Protection and Repatriation Act (NAGPRA or the Act). The recommendations, findings, and actions in this notice are advisory only and are not binding on any person and may be admissible in any action brought under section 15 of the Act. The Native American Graves Protection and Repatriation Review Committee (Review Committee) finds that certain items meet the definition of “sacred objects” but do not meet the definition of “objects of cultural patrimony” under the Act and its implementing regulations.

ADDRESSES: The Review Committee meeting transcript containing the proceedings and Review Committee deliberation and findings is available online at http://www.nps.gov/nagpra/Review or from the National NAGPRA Program upon request (Nagpra_info@nps.gov).

SUPPLEMENTARY INFORMATION: The recommendations, findings, and actions of the Review Committee are advisory only and not binding on any person. These advisory findings and recommendations do not necessarily represent the views of the National Park Service or Secretary of the Interior. The National Park Service and the Secretary of the Interior have not taken a position on these matters.

The Review Committee was established by Section 8 of the Act, and is an advisory body governed by the Federal Advisory Committee Act, as amended, 5 U.S.C., App. Pursuant to 25 U.S.C. 3006(d), any records and findings made by the Review Committee relating to the identity or cultural affiliation of any cultural items and the return of such items may be admissible in any action brought under section 15 of the Act (25 U.S.C. 3013).

At its July 14, 2016, public meeting in Missoula, MT, the Review Committee heard a request from the Wiyot Tribe, California, as an affected party. The Wiyot Tribe requested a finding of fact and the facilitation of a resolution of a dispute before the Review Committee and asked that the Review Committee consider the identity of cultural items under the control of the Phoebe A. Hearst Museum of Anthropology, University of California Berkeley (PHMA).

In April 2014, the Wiyot Tribe submitted a written request for the repatriation of two sets of shamanic regalia, claimed as both sacred objects and objects of cultural patrimony and culturally affiliated with the Wiyot Tribe. On February 25, 2015, PHMA denied the Wiyot Tribe's claim to the items as objects of cultural patrimony and/or sacred objects under NAGPRA. On December 9, 2015, after the Wiyot Tribe provided additional documentation to support its claim, PHMA upheld its determination that the items were not eligible for repatriation under NAGPRA. On February 23, 2016, the Wiyot Tribe appealed PHMA's determination through the University of California Office of the President (UCOP) and on June 7, 2016, UCOP upheld PHMA's determination that the items do not meet the NAGPRA definition of sacred objects or objects of cultural patrimony.

The Wiyot Tribe disputes PHMA's determination that the items do not meet the definition of objects of cultural patrimony and/or sacred objects. The Wiyot Tribe requested that the Review Committee review the record, first make a finding of fact on the identity of the items, and then, if necessary, make a recommendation to the parties on resolving the dispute.

Such finding of fact and facilitation of the resolution of this dispute between the Wiyot Tribe and PHMA are the express responsibilities of the Review Committee under the provisions of the Act at 25 U.S.C. 3006(c)(3) and (4). The Designated Federal Officer and the Review Committee Chair agreed that the Review Committee would consider the request at a public meeting held on July 14, 2016, in Missoula, MT.

Finding Of Fact: Six of the seven Review Committee members currently appointed by the Secretary of the Interior participated. By a vote of four (4) to one (1) (the Chair did not vote), the Review Committee found that the items are sacred objects under NAGPRA. By a vote of three (3) to two (2) (the Chair did not vote), the Review Committee found that the items are not objects of cultural patrimony under NAGPRA.

Dated: September 6, 2016.
Armand Minthorn,
Chair, Native American Graves Protection and Repatriation Review Committee.

[FR Doc. 2016-24468 Filed 10-7-16; 8:45 am]

BILLING CODE 4312-52-P